DEPARTMENT OF JUSTICE

Notice of Lodging of Proposed Consent Decree Under the Resource Conservation and Recovery Act

On July 1, 2020, the Department of Justice lodged a proposed Consent Decree with the United States District Court for the Eastern District of Wisconsin in the lawsuit entitled United States v. Waste Management of Wisconsin, Inc., Civil Action No. 20-cv-993.

The United States brought this case under the Resource Conservation and Recovery Act (“RCRA”), 42 U.S.C. 6901 et seq. The Complaint alleges that Waste Management improperly disposed of hazardous waste at the Metro Recycling and Disposal Facility in Franklin, Wisconsin. The Consent Decree requires Waste Management to pay a civil penalty of $232,000, implement a program of groundwater and leachate testing, and enforce policies designed to ensure future compliance with RCRA. The Consent Decree would resolve the United States' RCRA claims in the complaint and other potential RCRA claims based on the same type of waste addressed in the complaint.

The publication of this notice opens a period for public comment on the Consent Decree. Comments should be addressed to the Assistant Attorney General, Environment and Natural Resources Division, and should refer to United States v. Waste Management of Wisconsin, Inc., D.J. Ref. No. 90-7-1-11093. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.25 (25 cents per page reproduction cost) payable to the United States Treasury.

Patricia A. McKenna,
Assistant Section Chief, Environmental Enforcement Section, Environment and Natural Resources Division.

[FR Doc. 2020-14816 Filed 7-8-20; 8:45 am]

BILLING CODE 4410-15-P